DEPARTMENT OF ENERGY

Federal Energy Regulatory Commission

Combined Notice of Filings #1

May 26, 2006.

Take notice that the Commission received the following electric rate filings:

Docket Numbers: ER98-1150-006; EL05-87-000.

Applicants: Tucson Electric Power Company.

Description: Tucson Electric Power Co submits this compliance filing pursuant to the 4/19/06 letter issued by FERC.

Filed Date: 5/19/2006.

Accession Number: 20060523-0062.

Comment Date: 5 p.m. Eastern Time on Friday, June 9, 2006.

Docket Numbers: ER00-3614-000; ER04-611-003.

Applicants: BP Energy Company; BP West Coast Products, LLC.

Description: BP Energy Co submits an informational filing re updates of several non-material events that have occurred since its submission of its 6/17/05 triennial market power update.

Filed Date: 5/3/2006.

Accession Number: 20060524-0187.

Comment Date: 5 p.m. Eastern Time on Wednesday, May 24, 2006.

Docket Numbers: ER05-1082-004.

Applicants: Carolina Power & Light Company.

Description: Carolina Power & Light Co dba Progress Energy Carolinas, Inc submits a corrected tariff sheet no. 9, to Original Volume No 6.

Filed Date: 5/11/2006.

Accession Number: 20060524-0209.

Comment Date: 5 p.m. Eastern Time on Thursday, June 1, 2006.

Docket Numbers: ER05-1316-002.

Applicants: Kumeyaay Wind LLC.

Description: Kumeyaay Wind, LLC submits its notice of change in status as a result of an acquisition of an interest in a generating plant by an affiliate of one of its upstream owners pursuant to FERC's Order 652.

Filed Date: 5/18/2006.

Accession Number: 20060524-0124.

Comment Date: 5 p.m. Eastern Time on Thursday, June 8, 2006.

Docket Numbers: ER06-710-001.

Applicants: New York Independent System Operator, Inc.

Description: New York Independent System Operator Inc submits its response to FERC's deficiency letter issued on 4/28/06.

Filed Date: 5/19/2006.

Accession Number: 20060524-0199.

Comment Date: 5 p.m. Eastern Time on Friday, June 9, 2006.

Docket Numbers: ER06-792-001.

Applicants: Norge Power Marketing Corporation.

Description: Norge Power Marketing Corporation submits an amendment to its Electric Tariff Market-Based Rate Schedule.

Filed Date: 5/18/2006.

Accession Number: 20060524-0197.

Comment Date: 5 p.m. Eastern Time on Thursday, June 8, 2006.

Docket Numbers: ER06-911-001.

Applicants: DC Energy Midwest, LLC.

Description: DC Energy Midwest, LLC submits a revised amendment to its FERC Electric Tariff No. 1.

Filed Date: 5/22/2006.

Accession Number: 20060524-0203.

Comment Date: 5 p.m. Eastern Time on Monday, June 12, 2006.

Docket Numbers: ER06-912-001.

Applicants: DC Energy New York, LLC.

Description: DC Energy New York, LLC submits a revised amendment to its FERC Electric Tariff No. 1.

Filed Date: 5/22/2006.

Accession Number: 20060524-0201.

Comment Date: 5 p.m. Eastern Time on Monday, June 12, 2006.

Docket Numbers: ER06-913-001.

Applicants: DC Energy Mid-Atlantic, LLC.

Description: DC Energy Mid-Atlantic, LLC submits a revised amendment to its FERC Electric Tariff No. 1.

Filed Date: 5/22/2006.

Accession Number: 20060524-0205.

Comment Date: 5 p.m. Eastern Time on Monday, June 12, 2006.

Docket Numbers: ER06-914-001.

Applicants: DC Energy New England, LLC.

Description: DC Energy New England, LLC submits a revised amendment to its FERC Electric Tariff No. 1.

Filed Date: 5/22/2006.

Accession Number: 20060524-0204.

Comment Date: 5 p.m. Eastern Time on Monday, June 12, 2006.

Docket Numbers: ER06-915-001.

Applicants: DC Energy, LLC.

Description: DC Energy, LLC submits a revised amendment to its FERC Electric Tariff No. 1.

Filed Date: 5/22/2006.

Accession Number: 20060524-0202.

Comment Date: 5 p.m. Eastern Time on Monday, June 12, 2006.

Docket Numbers: ER06-944-001.

Applicants: Tucson Electric Power Company.

Description: Tucson Electric Power Co submits a certificate of concurrence to the Public Service Co of New Mexico's amended & restated San Juan Project Participation Agreement.

Filed Date: 5/22/2006.

Accession Number: 20060524-0018.

Comment Date: 5 p.m. Eastern Time on Monday, June 12, 2006.

Docket Numbers: ER06-944-001.

Applicants: Tri-State Generation and Transmission Association.

Description: Tri-State Generation and Transmission Association Inc submits a certificate of concurrence to the Public Service Co of New Mexico's amended and restated San Juan Project Participation Agreement.

Filed Date: 5/19/2006.

Accession Number: 20060524-0017.

Comment Date: 5 p.m. Eastern Time on Friday, June 9, 2006.

Docket Numbers: ER06-944-001.

Applicants: Utah Association Municipal Power Systems.

Description: Utah Association Municipal Power Systems certificate of concurrence to the Public Service Company of New Mexico's amended and restated San Juan Project Participation Agreement.

Filed Date: 5/18/2006.

Accession Number: 20060518-5015.

Comment Date: 5 p.m. Eastern Time on Thursday, June 8, 2006.

Docket Numbers: ER06-944-001.

Applicants: The City of Farmington, New Mexico.

Description: The City of Farmington, New Mexico submits its certificate of concurrence to the Public Service Co of New Mexico's amended and restated San Juan Project Participation Agreement and on 5/22/06 submitted a revision to this filing.

Filed Date: 5/18/2006.

Accession Number: 20060524-0019.

Comment Date: 5 p.m. Eastern Time on Thursday, June 8, 2006.

Docket Numbers: ER06-987-001.

Applicants: HLM Energy LLC.

Description: HLM Energy LLC submits an amended Petition for Acceptance of Initial Rate Schedule No. 1.

Filed Date: 5/16/2006.

Accession Number: 20060516-5052.

Comment Date: 5 p.m. Eastern Time on Tuesday, June 6, 2006.

Docket Numbers: ER06-1020-000.

Applicants: American Transmission Company LLC.

Description: American Transmission Co LLC submits an executed Distribution—Transmission Interconnection Agreement with Brodhead Water & Light.

Filed Date: 5/19/2006.

Accession Number: 20060524-0216.

Comment Date: 5 p.m. Eastern Time on Friday, June 9, 2006.

Docket Numbers: ER06-1021-000.

Applicants: American Transmission Company LLC.

Description: American Transmission Co LLC submits an executed Distribution—Transmission Interconnection Agreement with the City of Richland Center Utility Commission.

Filed Date: 5/19/2006.

Accession Number: 20060524-0215.

Comment Date: 5 p.m. Eastern Time on Friday, June 9, 2006.

Docket Numbers: ER06-1022-000.

Applicants: American Transmission Company LLC.

Description: American Transmission Co LLC submits an executed Distribution—Transmission Interconnection Agreement with Florence Utilities.

Filed Date: 5/19/2006.

Accession Number: 20060524-0214.

Comment Date: 5 p.m. Eastern Time on Friday, June 9, 2006.

Docket Numbers: ER06-1023-000.

Applicants: San Diego Gas & Electric Company.

Description: San Diego Gas & Electric Co submits its 2005 costs and accruals report for PBOP, as recorded in FERC Uniforms System of Accounts 926.

Filed Date: 5/19/2006.

Accession Number: 20060524-0213.

Comment Date: 5 p.m. Eastern Time on Friday, June 9, 2006.

Docket Numbers: ER06-1024-000.

Applicants: San Diego Gas & Electric Company.

Description: San Diego Gas & Electric Co submits a revision to its Service Agreement Nos 4 and 6, Original Volume 11, to become effective 5/11/06.

Filed Date: 5/19/2006.

Accession Number: 20060524-0170.

Comment Date: 5 p.m. Eastern Time on Friday, June 9, 2006.

Docket Numbers: ER06-1025-000.

Applicants: Michigan Electric Transmission Company, LLC.

Description: Michigan Transmission Co, LLC submits a Letter Agreement with Wabash Valley Power Association, Inc as agent for Midwest Energy Corp.

Filed Date: 5/19/2006.

Accession Number: 20060524-0212.

Comment Date: 5 p.m. Eastern Time on Friday, June 9, 2006.

Docket Numbers: ER06-1026-000.

Applicants: American Electric Power Service Corporation.

Description: The American Electric Power Service Corp as agent for its affiliate Ohio Power Co submits an interconnection and local delivery service agreement with Dayton Power & Light Co for the Middleboro Delivery Point.

Filed Date: 5/19/2006.

Accession Number: 20060524-0211.

Comment Date: 5 p.m. Eastern Time on Friday, June 9, 2006.

Docket Numbers: ER06-1028-000.

Applicants: American Electric Power Service Corporation

Description: American Electric Service Corp as agent for Indiana Michigan Power Co submits amendments to its Interconnection & Operating Agreement with DPL Energy, Inc.

Filed Date: 5/18/2006.

Accession Number: 20060524-0206.

Comment Date: 5 p.m. Eastern Time on Thursday, June 8, 2006.

Docket Numbers: ER06-1029-000.

Applicants: Pacific Gas & Electric Company.

Description: Pacific Gas and Electric Co submits three of its Generator Interconnection Agreements with Global Common, LLC & Ameresco Half Moon Bay, LLC.

Filed Date: 5/18/2006.

Accession Number: 20060524-0111.

Comment Date: 5 p.m. Eastern Time on Thursday, June 8, 2006.

Docket Numbers: ER06-1030-000.

Applicants: Goodman, James A.

Description: James Goodman submits an application requesting authorization for market-based rate authority for Electric Rate Tariff, Original Volume No. 1, pursuant to section 205 of the Federal Power Act.

Filed Date: 5/22/2006.

Accession Number: 20060524-0198.

Comment Date: 5 p.m. Eastern Time on Monday, June 12, 2006.

Docket Numbers: ER06-1031-000.

Applicants: Pacificorp.

Description: PacifiCorp submits a Notice of Cancellation of Rate Schedule FERC No. 225, to be effective 3/9/06.

Filed Date: 5/22/2006.

Accession Number: 20060524-0185.

Comment Date: 5 p.m. Eastern Time on Monday, June 12, 2006.

Docket Numbers: ER06-1033-000.

Applicants: Pacific Gas and Electric Company.

Description: Pacific Gas and Electric Co submits service agreements with Shelter Cove Resort Improvement District 1.

Filed Date: 5/22/2006.

Accession Number: 20060524-0217.

Comment Date: 5 p.m. Eastern Time on Monday, June 12, 2006.

Docket Numbers: ER06-1038-000.

Applicants: BP Energy Company.

Description: BP Energy Co submits its application for authorization to transmit electric energy to Canada.

Filed Date: 5/22/2006.

Accession Number: 20060524-0200.

Comment Date: 5 p.m. Eastern Time on Monday, June 12, 2006.

Docket Numbers: ER06-1039-000.

Applicants: Freedom Partners, LLC.

Description: Freedom Partners, LLC submits an application for acceptance of initial market-based rate tariff, waivers and blanket authority.

Filed Date: 5/22/2006

Accession Number: 20060524-0194.

Comment Date: 5 p.m. Eastern Time on Monday, June 12, 2006.

Docket Numbers: ER06-1040-000.

Applicants: Duke Power Company LLC.

Description: Duke Power Co, LLC dba Duke Energy Carolinas, LLC submits Partial Requirements Service Agreement with Blue Ridge Membership Corp, Piedmont Electric Membership and Rutherford Electric Membership.

Filed Date: 5/18/2006.

Accession Number: 20060524-0092.

Comment Date: 5 p.m. Eastern Time on Thursday, June 8, 2006.

Docket Numbers: ER06-1041-000.

Applicants: American Electric Power Service Corporation.

Description: The American Electric Power Service Corp as agent for Indiana and Michigan Power Co submits an Original Interconnection and Local Delivery Service Agreement with the City of Sturgis, Indiana.

Filed Date: 5/22/2006.

Accession Number: 20060524-0195.

Comment Date: 5 p.m. Eastern Time on Monday, June 12, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Magalie R. Salas,
Secretary.

[FR Doc. E6-8578 Filed 6-1-06; 8:45 am]

BILLING CODE 6717-01-P